DEPARTMENT OF TRANSPORTATION

Federal Aviation Administration

Notice of Intent To Rule on Request To Release Lake Murray State Park Airport at Ardmore, Oklahoma

AGENCY: Federal Aviation Administration (FAA), DOT.

ACTION: Notice of request to release airport.

SUMMARY: The FAA proposes to rule and invites public comment on the release of Lake Murray State Park Airport at Lake Murray State Park in Ardmore, Oklahoma.

DATES: Comments must be received on or before January 25, 2016.

ADDRESSES: Comments on this application may be mailed or delivered to the FAA at the following address: Mr. Glenn A. Boles, Federal Aviation Administration, Southwest Region, Airports Division, Manager—Arkansas/Oklahoma Airports Development Office, ASW-630, 10101 Hillwood Parkway, Fort Worth, Texas 76177.

FOR FURTHER INFORMATION CONTACT: Ms. Kathy Franklin, Federal Aviation Administration, Arkansas/Oklahoma Airports Development Office, ASW-630J, 10101 Hillwood Parkway, Fort Worth, Texas 76177.

The request to release this airport may be reviewed in person at this same location.

SUPPLEMENTARY INFORMATION: The FAA invites public comment on the request to release Lake Murray State Park Airport at Lake Murray State Park in Ardmore, Oklahoma, from all federal obligations for the purposes of closing this airport under the provisions of Section 125 of the Wendell H. Ford Aviation Investment and Reform Act for the 21st Century (AIR 21).

The following is a brief overview of the request:

The Oklahoma Department of Tourism and the Oklahoma Aeronautics Commission (co-sponsors) requested the release of the airport which consists of 61.53 acres, paved runway (2,500 feet × 48 feet), connecting taxiway (160 feet × 35 feet) and apron (300 feet × 115 feet). The land was acquired by the State of Oklahoma for use as the Lake Murray State Park through an appropriation of state funds to the Planning and Resources Board in the 1930's. The airport was constructed in 1963 with an FAA Grant in the amount of $45,823.76. The airport has very low demand with only 50 operations for the 12 months ending Sept 20, 2013, has no based aircraft, and has been designated as `unclassified' by the FAA ASSET report. There are four other NPIAS airports within a 25 mile radius which better meet aviation needs of this area. Lake Murray State Park Airport's pavements are in fair condition; however, within the next five years, the runway will need to be reconstructed with an estimated cost to rehabilitate and improve to FAA standards of $1,083,000. The State has concluded this is not a prudent expenditure and that these limited funds would be better invested in other public use airports in Oklahoma. As the airport owners, the Oklahoma Department of Tourism and the Oklahoma Aeronautics Commission (OAC) have requested a full release of their airport obligations. If released, the airport property will return to being part of Lake Murray State Park, and the property will be allowed to become part of the natural grassland. The OAC plans to invest state funds equal to or in excess of the sum of the amount of the four AIP grants received ($183,999.00) and the appraised value for the land ($136,896) in NPIAS Airports in the Oklahoma Airport System during the federal fiscal year 2016.

Any person may inspect the request in person at the FAA office listed above under FOR FURTHER INFORMATION CONTACT.

Issued in Fort Worth, Texas on October 27, 2015.
Ignacio Flores,
Manager, Airports Division, Southwest Region.

[FR Doc. 2015-32459 Filed 12-23-15; 8:45 am]

BILLING CODE 4910-13-P